DEPARTMENT OF LABOR

Veterans' Employment and Training Services

Urban Homeless Veterans' Reintegration Program Competitive Grants for PY 2003

AGENCY: Veterans' Employment and Training Services, Labor.

ACTION: Notice of availability of funds and solicitation for grant applications (SGA) for Homeless Veterans' Reintegration Programs (SGA 03-04).

SUMMARY: All applicants for grant funds should read this notice in its entirety. The U.S. Department of Labor, Veterans' Employment and Training Service (VETS), announces a grant competition for urban grants for Homeless Veterans' Reintegration Programs (HVRP) authorized under the Homeless Veterans' Comprehensive Assistance Act of 2001 (HVCAA). This notice contains all of the necessary information and forms needed to apply for grant funding. Applicants should design programs to assist eligible veterans who are homeless by providing employment, training, support services and assistance. Under this solicitation, VETS anticipates that up to $7 Million will be available for grant awards in Program Year (PY) 2003 and expects to award up to twenty-five [25] grants.

The HVRP programs is designed to be flexible in addressing the universal as well as local or regional problems barring homeless veterans from the workforce. VETS in Program Year (PY) 2003 will continue to seek applicants that provide direct services through a case management approach, link with Federal, State and Local resources for homeless veterans and have clear strategies for employment and retention of the homeless.

DATES: Applications must be directed to the U.S. Department of Labor, Procurement Services Center, Attention: Cassandra Willis, Reference SGA 03-04, Room N-5416, 200 Constitution Avenue, NW., Washington, DC 20210 by April 21, 2003.

ADDRESSES: Applications must be directed to the U.S. Department of Labor, Procurement Services Center, Attention: Cassandra Willis, Reference SGA 03-04, Room N-5416, 200 Constitution Avenue, NW., Washington, DC 20210.

Forms or Amendments: If another copy of a Standard form is needed, go online to http://www.nara.gov.

To receive amendments to this Solicitation (Please reference SGA 03-04), all applicants must register their name and address with the Grant Officer at the following address: U.S. Department of Labor, Procurement Services Center, Room N-5416, 200 Constitution Avenue, NW., Washington, DC 20210.

FOR FURTHER INFORMATION CONTACT: All applicants are advised that U.S. mail delivery in the Washington, DC area has been erratic due to the concerns involving anthrax contamination. All applicants must take this into consideration when preparing to meet the application deadline. It is recommended that you confirm receipt of your application by contacting Cassandra Willis, U.S. Department of Labor, Procurement Services Center, telephone (202) 693-4570, prior to the closing deadline. [This is not a toll-free number].

SUPPLEMENTARY INFORMATION:

I. Background

Section 5 of the Homeless Veterans' Comprehensive Assistance Act of 2001 (HVCAA) amended the Homeless Veterans' Reintegration Programs at 38 U.S.C. 2021, and provides “the Secretary * * * shall conduct, directly or through grant or contract, such programs as the Secretary determines appropriate to provide job training, counseling, and placement services (including job readiness and literacy and skills training) to expedite the reintegration of homeless veterans into the labor force.”

The Homeless Veterans' Reintegration Project was the first nationwide Federal program that focused on placing homeless veterans into jobs. Both types of programs, urban and non-urban, in the past have provided valuable information on approaches that work in the different environments.

II. Application Process

A. Potential Jurisdictions To Be Served

This SGA is for urban HVRP grants. Separate SGAs for non-urban and new grantees HVRP grants have been issued at the same time.

Due to the amount of funds available, and the emphasis on establishing or strengthening existing linkages with other recipients of funds under the HVCAA, the only potential jurisdictions which will be served through this urban competition for HVRPs in PY 2003 are the metropolitan areas of the 75 U.S. cities largest in population and the city of San Juan, Puerto Rico. All potential HVRP jurisdictions are listed in Appendix G.

B. Eligible Applicants

Applications for funds will be accepted from State and Local workforce investment boards, local public agencies, for-profit/commercial entities, and nonprofit organizations, including faith-based and community organizations, which have familiarity with the area and population to be served and can administer an effective program. Eligible applicants will fall into one of the following categories:

1. State and Local Workforce Investment Boards (WIBS) as defined in Section 111 and 117 of the Workforce Investment Act, are eligible applicants, as well as State and local public agencies.

2. Local public agencies, meaning any public agency of a general purpose political subdivision of a State which has the power to levy taxes and spend funds, as well as general corporate and police powers. (This typically refers to cities and counties.) A State agency may propose in its application to serve one or more of the potential jurisdictions located in its State. This does not preclude a city or county agency from submitting an application to serve its own jurisdiction.

Applicants are encouraged to utilize, through partnerships or sub-awards, experienced public agencies, private nonprofit organizations, private businesses and faith-based and community organizations that have an understanding of unemployment and the barriers to employment unique to homeless veterans, a familiarity with the area to be served, and the capability to effectively provide the necessary services.

3. Also eligible to apply are for-profit/commercial entities and private nonprofit organizations that have operated an HVRP or similar employment and training program for the homeless or veterans and proven a capacity to manage grants and have or will provide the necessary linkages with other service providers. Entities described in Section 501(c)(4) of the Internal Revenue Codes that engage in lobbying activities are not eligible to receive funds under this announcement as Section 18 of the Lobbying Disclosure Act of 1995, Public Law No. 104-65, 109 Stat. 691, prohibits the award of Federal funds to these entities.

C. Funding Levels

The total amount of funds available for this solicitation is up to $7.0 million. It is anticipated that up to 25 awards may be made under this solicitation. Awards are expected to range from $250,000 to $300,000. The Department of Labor reserves the right to negotiate the amounts to be awarded under this competition. Please be advised that requests exceeding the $300,000 will be considered non-responsive.

D. Period of Performance

The period of performance will be for twelve (12) months from date of award unless modified. It is expected that successful applicants will commence program operations under this solicitation by July 1, 2003. Program funds must be obligated by June 30, 2004, however, funds may be reserved for limited activities of the close-out.

E. Optional Year Funding

Should there be action by Congress to appropriate funds for this purpose, optional year funding may be considered. The Government does not, however, guarantee optional year funding for any awardee. Should VETS decide that an option year for funding be exercised, the grantees' performance during the previous period of operations will be taken into consideration as follows:

1. The grantee must meet at minimum 85% of planned goals for Federal expenditures, enrollments, and placements in each quarter; and

2. The grantee must be in compliance with all terms identified in the solicitation for grant application, general and special provisions.

3. All program and fiscal reports must have been submitted by the established due date and must be verifiable for accuracy.

All instructions for modifications and announcement of fund availability will be issued at a later date. For these competitive grants, only two optional years of HVRP funding may be available.

F. Submission of Proposal

A cover letter, an original and two (2) copies of the proposal must be submitted to the U.S. Department of Labor, Procurement Service Office, Room N-5416, 200 Constitution Avenue, NW., Washington, DC 20210. The proposal must consist of two (2) separate and distinct parts: (a) the technical proposal and (b) the cost proposal; (1) one completed, blue ink-signed original SF 424 grant application with an original and two (2) copies of the Technical Proposal; and an original and two (2) copies of the Cost Proposal.

G. Acceptable Methods of Submission

The grant application package must be received at the designated place by the date and time specified or it will not be considered. Any application received at the Office of Procurement Services after 4:45 p.m. ET, April 21, 2003, will not be considered unless it is received before the award is made and:

1. It was sent by registered or certified mail not later than the fifth calendar day before April 21, 2003; or

2. It was sent by U.S. Postal Service Express Mail Next Day Service-Post Office to Addressee, not later than 5 p.m. at the place of mailing two (2) working days, excluding weekends and Federal holidays, prior to April 21, 2003; and

3. It is determined by the Government that the late receipt was due solely to mishandling by the Government after receipt at the U.S. Department of Labor at the address indicated.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office. Applications sent by other delivery services, such as Federal Express, UPS, etc., will also be accepted.

All applicants are advised that U.S. mail delivery in the Washington, DC area has been erratic due to the concerns involving anthrax contamination. All applicants must take this into consideration when preparing to meet the application deadline, as you assume the risk for ensuring a timely submission; that is, if, because of these mail problems, the Department does not receive an application or receives it too late to give proper consideration, even if it was timely mailed, the Department is not required to consider the application.

III. Participant Eligibility

To be eligible for participation under HVRP, an individual must be homeless and a veteran defined as follows:

A. The term “homeless or homeless individual” includes persons who 1ack a fixed, regular, and adequate nighttime residence. It also includes persons whose primary nighttime residence is either a supervised public or private shelter designed to provide temporary living accommodations; an institution that provides a temporary residence for individuals intended to be institutionalized; or a private place not designed for, or ordinarily used as, a regular sleeping accommodation for human beings. [42 U.S.C. 11302 (a)].

B. The term “veteran” means a person who served in the active military, naval, or air service, and who was discharged or released therefrom under conditions other than dishonorable. [38 U.S.C. 101(2)]

IV. Related HVRP Program Development Activities

Community Awareness Activities

In order to promote linkages between the program and local service providers (and thereby eliminate gaps or duplication in services and enhance provision of assistance to participants), the grantee must provide project orientation and/or service awareness activities that it determines are the most feasible for the types of providers listed below. Project orientation workshops conducted by grantees have been an effective means of sharing information and revealing the availability of other services; they are encouraged but not mandatory. Rather, the grantee will have the flexibility to attend service provider meetings, seminars, conferences, outstation staff, develop individual service contracts, and involve other agencies in program planning. This list is not exhaustive. The grantee will be responsible for providing appropriate awareness, information sharing, and orientation activities to the following:

A. Providers of hands-on services to the homeless veteran, such as shelter and soup-kitchen operators, to make them fully aware of services available to homeless veterans to make them job-ready and place them in jobs.

B. Federal, State and local entitlement services such as the Social Security Administration (SSA), Department of Veterans' Affairs (DVA), State Employment Security Agencies (SESAs) and their local Job Service offices, One-Stop Centers (which integrate WIA, labor exchange, and other employment and social services), detoxification facilities, etc., to familiarize them with the nature and needs of homeless veterans.

C. Civic and private sector groups, and especially veterans' service and community-based organizations (including faith-based organizations), to describe homeless veterans and their needs.

D. Stand Down Support

A “Stand Down”, as it relates to homeless veterans, is an event held in a locality usually for three days where services are provided to homeless veterans along with shelter, meals, clothing, and medical attention. This type of event is mostly volunteer effort, which is organized within a community and brings service providers together such as the DVA, Disabled Veterans' Outreach Program Specialists, Local Veterans' Employment Representatives from the State Employment Service Agencies, veteran service organization, military personnel, civic leaders, and a variety of other interested persons and organizations. Many services are provided on-site with referrals also made for continued assistance after the event. This can often be the catalyst that enables the homeless veterans to get back into mainstream society. The Department of Labor has supported replication of this event. Many such events have been held throughout the nation.

In areas where an HVRP is operating, the grantees are encouraged to participate fully and offer their services for any planned Stand Down event. Towards this end, up to $5,000 of the currently requested HVRP grant funds may be used to supplement the Stand Down effort where funds are not otherwise available, and should be reflected in the budget and budget narrative.

V. Program Summary

A. Program Concept and Emphasis

The HVRP grants under Section 5 of the Homeless Veterans Comprehensive Assistance Act (HVCAA) of 2001 are intended to address two objectives: (1) to provide services to assist in reintegrating homeless veterans into meaningful employment within the labor force; and (2) to stimulate the development of effective service delivery systems that will address the complex problems facing homeless veterans. These programs are designed to be flexible in addressing the universal as well as local or regional problems barring homeless veterans from the workforce. The program in FY 2003 will continue to strengthen the development of effective service delivery systems, to provide comprehensive services through a case management approach that will address the complex problems facing eligible veterans trying to transition into gainful employment, and improve strategies for employment and retention.

B. Scope of Program Design

The project design must provide for the following services:

1. Outreach, intake, assessment, counseling to the degree practical, and employment services. Outreach must be provided at shelters, day centers, soup kitchens, VA medical centers, and other programs for the homeless. Program staff providing outreach services should be veterans who have experience in dealing with, and an understanding of the needs of the homeless.

2. Coordination with veterans' services programs and organizations such as:

• Disabled Veterans' Outreach Program (DVOP) Specialists, Local Veterans' Employment Representatives (LVERs) in the State Employment Security/Job Service Agencies (SESAs) or in the workforce development system's One-Stop Centers, and Veterans' Workforce Investment Programs (VWIPs);

• Department of Veterans' Affairs (DVA) services, including its Health Care for Homeless Veterans, Domiciliary, and other programs, including those offering transitional housing; and

• Veteran service organizations such as The American Legion, Disabled American Veterans, the Veterans of Foreign Wars, Vietnam Veterans of America, and the American Veterans (AMVETS);

3. Referral to necessary treatment services, rehabilitative services, and counseling including, but not limited to:

• Alcohol and drugs;

• Medical;

• Post Traumatic Stress Disorder;

• Mental Health;

• Coordinating with McKinney Homeless Assistance Act (MHAA) Title VI programs for health care for the homeless or [health care programs under the HVCAA];

4. Referral to housing assistance provided by, for example:

• Local shelters;

• Federal Emergency Management Administration (FEMA) food and shelter programs;

• Transitional housing programs and single room occupancy housing programs funded under MHAA Title IV [and under HVCAA];

• Permanent housing programs for the handicapped homeless funded under MHAA Title IV [and under HVCAA];

• Department of Veterans' Affairs programs that provide for leasing or sale of acquired homes to homeless providers; and

5. Employment and training services such as:

• Basic skills instruction;

• Remedial education activities;

• Job search activities, including job search workshops;

• Job counseling;

• Job preparatory training, including resume writing and interviewing skills;

• Subsidized trial employment (Work Experience);

• On-the-Job Training;

• Classroom Training;

• Job placement in unsubsidized employment;

• Placement follow up services; and

• Services provided under WIA.

C. Results-Oriented Model

No model is mandatory, but the applicant must design a program that is responsive to the local needs, and will carry out the objectives of the program to successfully reintegrate homeless veterans into the workforce.

Under the Government Performance and Results Act (GPRA), Congress and the public are looking for program results rather than program processes. The outcome measurement established for HVRP grants is for grantees to meet a minimum entered employment rate of 56%, e.g., number of entered employments divided by enrollments (These outcomes will be reported quarterly on Technical Performance Goals Form, Appendix D.). While entering employment is a viable outcome, it will be necessary to measure results over a longer term to determine the success of programs.

The following program discussion must be considered in a results-oriented model. The first phase of activity must consist of the level of outreach that is necessary to reach eligible veterans. Such outreach will also include establishing contact with other agencies that encounter homeless veterans.

Once the eligible participants have been identified, an assessment must be made of their abilities, interests, needs, and barriers to employment. In some cases, these participants may require referrals to services such as social rehabilitation, drug or alcohol treatment or a temporary shelter before they can be enrolled into core training.

When the individual is stabilized, the assessment should focus on the employability of the individual and their enrollment into the program. A determination should be made as to whether they would benefit from pre-employment preparation such as resume writing, job search workshops, related counseling and case management, and initial entry into the job market through temporary jobs, sheltered work environments, or entry into classroom or on-the-job training. Such services should also be noted in an Employability Development Plan so that successful completion of the plan may be monitored by the staff.

Entry into full-time employment or a specific job training program should follow, in keeping with the objective of HVRP to bring the participant closer to self-sufficiency. Supportive services may assist the participant at this stage or even earlier. Job development is a crucial part of the employability process.

Wherever possible, DVOP and LVER staff must be utilized for job development and placement activities for veterans who are ready to enter employment or who are in need of intensive case management services. Many of these staff members have received training in case management at the National Veterans' Training Institute and have a priority of focus, assisting those most at a disadvantage in the labor market. VETS urges working hand-in-hand with DVOP/LVER staff to achieve economies of resources.

The following program discussion emphasizes that follow-up is an integral program component. Follow-up to determine whether the veteran is in the same or similar job at the 90 and 180 day period after entering employment is required. It is important that the grantee maintain contact with the veterans after placement to assure that employment related problems are addressed. The 90 and 180 day follow-up is fundamental to assessing the results of the program success. Grantees need to budget for this activity so that follow-up can and will occur for those placed at or near the end of the grant performance period. Grantees, prior to the end of the grant performance period, must obligate funds to ensure that follow-up activities are completed. Such results will be reported in the final technical performance repoPRTPAGE P='10533'>

VI. Required Content

There are seven program activities that all applications must contain to be found technically acceptable under this SGA. Programs must be “employment focused” and must be responsive to the rating criteria in Section IX. These activities are:

1. Outreach

2. Pre-Enrollment Assessments;

3. Employment Development Plans for all clients;

4. Case Management

5. Job Placement and job retention follow-up (at 90 and 180 days) after individual enters employment.

6. Utilization of DVOP and LVER staff in service delivery.

7. Programs must show community linkages with other programs and services which provide support to homeless veterans.

VII. Proposal Content

The proposal consists of two separate and distinct parts, Part 1 is the technical proposal and Part 2 is the cost proposal. The information provided in these two parts is essential in gaining an understanding of the programmatic and fiscal contents of the grant proposal.

A. Part 1—The Technical Proposal consists of a narrative proposal that demonstrates: the applicant's knowledge of the need for this particular grant program; an understanding of the services and activities proposed to obtain successful outcomes for the homeless veterans served; and the capability to accomplish the expected outcomes of the proposed project design. The technical proposal narrative must not exceed fifteen (15) pages double-spaced, font size no less than 11 pt., and typewritten on one side of the paper only. [The applicant also must complete the forms, i.e., Technical Performance Goals chart provided in the SGA, Appendix D.].

The proposal must include an outreach component which uses veterans whenever possible to provide outreach. Coordination with the Disabled Veterans' Outreach Program (DVOP) Specialists and Local Veterans' Employment Representatives (LVER) in the jurisdiction is required.

Programs must be “employment focused”. The services provided will be directed toward: (a) increasing the employability of homeless veterans through training or arranging for the provision of services which will enable them to work; and (b) matching homeless veterans with potential employers.

The following format for the technical proposal is strongly recommended:

1. Need for the program: The applicant must identify the geographical area to be served and provide an estimate of the number of homeless veterans and their needs, poverty and unemployment rates in the area, the gaps in the local community infrastructure that contribute to the employment and other barriers faced by the targeted veterans, and how the project would respond to these needs. Include Labor Market Information (LMI) on the outlook for job opportunities in the service area.

2. Approach or strategy to increase employment and job retention: Applicants must be responsive to the Rating Criteria contained in Section IX and address all of the rating factors as thoroughly as possible in the narrative. The applicant must: (a) Outline the type(s) of training available “ is training for demand occupations, the length of training, the training curriculum and how the training will enhance the eligible veterans' employment opportunities within that geographical area; (b) describe the specific supportive, employment and training services to be provided under this grant and the sequence or flow of such services—flow charts may be provided; (c) provide a plan for follow-up to address retention after 90 and 180 days with participants who entered employment. (See discussion on results in Section V.c.); and (d) include the required chart of proposed performance goals and planned expenditures listed in Appendix D.

3. Linkages with other providers of employment and training services to the homeless veterans: Describe the linkages this program will have with other providers of services to homeless veterans outside of the HVRP grant; include a description of the relationship with other employment and training programs such as Disabled Veterans' Outreach Program (DVOP), the Local Veterans' Employment Representative (LVER) program, and programs under the Workforce Investment Act; and list the type of services provided by each. Note the type of agreement in place, if applicable. Linkages with the workforce development system must be delineated. Describe any linkages with any other resources and/or other programs for Homeless veterans. Indicate how the program will be coordinated with any efforts for the homeless that are conducted by agencies in the community. If Memoranda of Understanding (MOU) or other service agreements exist with other service providers, copies should be provided.

4. Linkages with other federal agencies: Describe any program and resource linkages with Department of Housing and Urban Development (HUD), Department of Health and Human Services (HHS), and Department of Veterans Affairs (DVA) for the homeless, to include the Compensated Work Therapy (CWT) and Per Diem programs. Indicate how the applicant will coordinate with any “continuum of care” efforts for the homeless among agencies in the community. If Memoranda of Understanding (MOU) or other service agreements exist with other service providers, copies should be provided.

5. Proposed supportive service strategy for veterans: Describe how supportive service resources for veterans will be obtained and used. If resources are provided by other sources or linkages, such as Federal, State, local or faith-based and community programs, the applicant must fully explain the use of these resources and why they are necessary, if Memoranda of Understanding (MOU) or other service agreements exist with other service providers, copies should be provided.

6. Organizational capability to provide required program activities: The applicant's relevant current or prior experience in operating employment and training programs should be clearly described. A summary narrative of program experience and employment and training performance outcomes is required. The applicant must provide information showing outcomes of all past programs in terms of enrollments and placements. An applicant which has operated a HVRP or other Homeless Employment and Training program, or VWIP program, must include final or most recent technical performance reports. The applicant must also provide evidence of key staff capability.

7. Proposed housing strategy for homeless veterans: Describe how housing resources for homeless veterans will be obtained or accessed. These resources should be from linkages or sources other than the HVRP grant such as HUD, HHS, community housing resources, DVA leasing, or other programs. The applicant is not allowed to use HVRP resources to support housing needs.

Note: Resumes, charts, standard forms, transmittal letters, MOUs, agreements, lists of contracts and grants and letters of support are not included in the page count. [If provided, include these documents as attachments to the technical proposal.]

B. Part 2—Cost Proposal must contain: (1) The Standard Form (SF) 424, “Application for Federal Assistance”, (original, signed in blue-ink) (2) the Standard Form (SF) 424A “Budget Information Sheet” in Appendix B, and (3) a detailed cost break out of each line item on the Budget Information Sheet. Please label this page or pages the “Budget Narrative” and ensure that costs reported on the SF 424A correspond accurately with the Budget Narrative. In addition to the cost proposal the applicants must include the Assurance and Certification signature page, Appendix C. Copies of all required forms with instructions for completion are provided as appendices to this SGA. All applicants must submit evidence of satisfactory financial management capability, which must include recent financial and/or audit statements.

The Catalog of Federal Domestic Assistance number for this program is 17.805. It must be entered on the SF 424, Block 10.

All applicants must include, as a separate appendix, a list of all government grants and contracts that it has had in the past three (3) years, including grant/contract officer contact information. Veterans' Employment and Training Service reserves the right to have a representative within each State review and verify this data. Applicants can expect that the cost proposal will be reviewed for allowability, allocability, and reasonableness.

VIII. The Cost Proposal Narrative Information

As an attachment to the Budget Information Sheet (SF 424A), the applicant must provide, at a minimum, and on separate sheet(s), the following information:

A. A breakout of all personnel costs by position, title, salary rates, and percent of time of each position to be devoted to the proposed project (including subawardees);

B. An explanation and breakout of extraordinary fringe benefit rates and associated charges (i.e., rates exceeding 35% of salaries and wages);

C. An explanation of the purpose and composition of, and method used to derive the costs of each of the following: travel, equipment, supplies, subawards/ contracts, and any other costs. The applicant must include costs of any required travel described in this Solicitation. Mileage charges may not exceed 36 cents per mile;

D. A plan, which includes all associated costs, for retaining participant information pertinent to a follow-up survey, six (6) months after the program performance period ends;

E. A description/specification of and justification for equipment purchases, if any. Tangible, non-expendable, personal property having a useful life of more than one year and a unit acquisition cost of $5,000 or more per unit must be specifically identified; and

F. An identification of all sources of leveraged or matching funds and an explanation of the derivation of the value of matching/in-kind services. If resources/matching funds and/or the value of in-kind contributions are made available please show in Section B of the Budget Information Sheet.

IX. Rating Criteria for Award

Applications will be reviewed by a DOL panel using the point scoring system specified below. Applications will be ranked based on the score assigned by the panel after careful evaluation by each panel member. The ranking will be the primary basis to identify applicants as potential grantees. Although the Government reserves the right to award on the basis of the initial proposal submissions, the Government may establish a competitive range, based upon the proposal evaluation, for the purpose of selecting qualified applicants. The panel's conclusions are advisory in nature and not binding on the Grant Officer. The Government reserves the right to ask for clarification or hold discussions, but is not obligated to do so. The Government further reserves the right to select applicants out of rank order if such a selection would, in its opinion, result in the most effective and appropriate combination of funding, program and administrative costs e.g., cost per enrollment and placement, demonstration models, and geographic service areas. While points will not be awarded for cost issues, cost per entered employment will be given serious consideration in the selection of awardee. The Grant Officer's determination for award under SGA 03-04 is the final agency action. The submission of the same proposal from any prior year HVRP or Homeless Veterans Employment and Training (HVET) competition does not guarantee an award under this Solicitation.

Panel Review Criteria

1. Need for the Project: 15 points.

The applicant will document the extent of need for this project, as demonstrated by: (a) The potential number or concentration of homeless individuals and homeless veterans in the proposed project area relative to other similar areas of jurisdiction; (b) the rates of poverty and/or unemployment in the proposed project area as determined by the census or other surveys; and (c) the extent of gaps in the local infrastructure to effectively address the employment barriers that characterize the target population.

2. Overall Strategy To Increase Employment and Retention: 40 points.

The application must include a description of the approach to providing comprehensive employment and training services, including job training, job development, any employer commitments to hire, placement, and post-placement follow up services. Applicants must address how they will target occupations in expanding industries, rather than declining industries. The supportive services to be provided as part of the strategy of promoting job readiness and job retention must be indicated. The applicant must identify the local services and sources of training to be used for participants. A description of the relationship, if any, with other employment and training programs such as SESAs (including DVOP and LVER Programs), One-stops, VWIP, other WIA programs, and Workforce Investment or Development Boards or entities where in place, must be presented. Applicant must indicate how the activities will be tailored or responsive to the needs of homeless veterans. A participant flow chart may be used to show the sequence and mix of services.

Note: The applicant MUST complete the chart of proposed program outcomes to include participants served, placement/entered employments and job retention. (See Appendix D). Of the 40 points possible in the strategy to increase employment and retention, 5 points will be awarded to grant proposals that demonstrate the ability to maintain a six-month employment retention rate of 50 percent or greater.

3. Quality and Extent of Linkages with Other Providers of Services to the Homeless and to Veterans: 10 points.

The application must provide information on the quality and extent of the linkages this program will have with other providers of services to benefit the homeless veterans in the local community outside of the HVRP grant. For each service, the applicant must specify who the provider is, the source of funding (if known), and the type of linkages/referral system established or proposed. Describe, to the extent possible, how the project would fit into the community's continuum of care approach to respond to homelessness and any linkages to HUD, HHS or DVA programs or resources to benefit the proposed program.

4. Demonstrated Capability in Providing Required Program Services: 20 points.

The applicant must describe its relevant prior experience in operating employment and training programs and providing services to participants similar to those which are proposed under this solicitation. Specific outcomes achieved by the applicant must be described in terms of clients placed in jobs, etc. The applicant must also address its capacity for timely startup of the program. The applicant should delineate its staff capability and ability to manage the administrative, programmatic and financial aspects of a grant program, including a recent (within the last 12 months), financial statement or audit if available. Final or most recent technical reports for other relevant programs must be submitted if applicable. Because prior grant experience is not a requirement for this grant, some applicants may not have any technical reports to submit.

5. Quality of Overall Housing Strategy: 15 points.

The application must demonstrate how the applicant proposes to obtain or access housing resources for veterans in the program and entering the labor force. This discussion should specify the provisions made to access temporary, transitional, and permanent housing for participants through community resources, HUD, DVA lease, or other means. HVRP funds may not be used to purchase housing or vehicles.

X. Post-Award Conference

A Post-Award conference will be held for those grantees awarded PY 2003 HVRP funds from the competition. It is expected to be held in May or June, 2003. Up to two grantee representatives must be present; a fiscal and a program representative is recommended. The site of the Post-Award conference has not yet been determined, for planning and budgeting purposes, please use five days and use Washington, DC as the conference location. The conference will focus on providing information and assistance on reporting, record keeping, and grant requirements, and also include best practices from past projects. Costs associated with attending this conference for up to two grantee representatives will be allowed as long as they were incurred in accordance with Federal travel regulations. Such costs must be charged as administrative costs and reflected in the proposed budget.

XI. Reporting Requirements

The grantee will submit the reports and documents listed below:

A. Financial Reports

The grantee must report outlays, program income, and other financial information on a quarterly basis using SF 269A, Financial Status Report, Short Form. This form will cite the assigned grant number and be submitted to the appropriate State Director for Veterans' Employment and Training (DVET) no later than 30 days after the ending date of each Federal fiscal quarter (i.e., October 30, January 30, April 30 and July 30) during the grant period.

B. Program Reports

Grantees must submit a Quarterly Technical Performance Report 30 days after the end of each Federal fiscal quarter to the DVET that contains the following:

1. A comparison of actual accomplishments to established goals for the reporting period and any findings related to monitoring efforts;

2. An explanation for variances of plus or minus 15% of planned program and/or expenditure goals, to include: (i) identification of corrective action which will be taken to meet the planned goals, if required; and (ii) a timetable for accomplishment of the corrective action.

C. 90 Day Follow-Up Report

The grantee must submit no later than 120 days after the grant performance expiration date a report containing the following:

1. Financial Status Report (SF-269A) (copy to be provided following grant awards); and

2. Technical Performance Report—(Program Goals).

D. Six (6) Month Follow-Up/Closeout Report

No later than 210 days after the grant performance period ends, the grantee must submit a follow-up report containing the following:

1. Final Financial Status Report (SF-269A); and

2. Final Narrative Report identifying—(a) the total combined (directed/assisted) number of veterans placed during the entire grant period; (b) the number of veterans still employed after the 6 month follow-up period; (c) whether the veterans are still employed at the same or similar job, if not what are the reasons; (d) whether the training received was applicable to jobs held; (e) wages at placement and during follow up period; (f) an explanation regarding why those veterans placed during the grant, but not employed at the end of the follow up period, are not so employed; and (g) any recommendations to improve the program.

XII. Administrative Provisions

A. Limitation on Administrative and Indirect Costs

1. Indirect costs claimed by the applicant must be based on a federally approved rate. A copy of the negotiated, approved, and signed indirect cost negotiation agreement must be submitted with the application.

2. If the applicant does not presently have an approved indirect cost rate, a proposed rate with justification may be submitted. Successful applicants will be required to negotiate an acceptable and allowable rate with the appropriate DOL Regional Office of Cost Determination within 90 days of grant award.

3. Rates traceable and trackable through the State Workforce Agency's Cost Accounting System represent an acceptable means of allocating costs to DOL and, therefore, can be approved for use in grants to State Workforce Agencies.

B. Administrative Standards and Provisions

Unless specifically provided in the grant agreement, DOL's acceptance of a proposal and an award of federal funds to sponsor any program(s) does not provide a waiver of any grant requirements and/or procedures. For example, the OMB circulars require and an entity's procurement procedures must provide that all procurement transactions will be conducted, as practical, to provide open and free competition. If a proposal identifies a specific entity to provide the services, the DOL award does not provide the justification or basis to sole-source the procurement, i.e., avoid competition. All grants will be subject to the following administrative standards and provisions, if applicable:

1. 29 CFR part 93—Lobbying.

2. 29 CFR part 95—Uniform Administrative Requirements for Grants and Agreements with Institutions of Higher Education, Hospitals, and other Non-profit Organizations, and with Commercial Organizations.

3. 29 CFR part 96—Federal Standards for Audit of Federally Funded Grants, Contracts and Agreements.

4. 29 CFR part 97—Uniform Administrative Requirements for Grants and Cooperative Agreements to State and Local Governments.

5. 29 CFR part 98—Federal standards for Government-wide Debarment and Suspension (Nonprocurement) and Government-wide Requirements for Drug-Free Workplace (Grants).

6. 29 CFR part 99—Audit Of States, Local Governments, and Non-profit Organization.

7. 29 CFR parts 30, 31, 32, 33 and 36—Equal Employment Opportunity in Apprenticeship and Training; Nondiscrimination in Federally-Assisted Programs of the Department of Labor, Effectuation of Title VI of the Civil Rights Act of 1964; Nondiscrimination on the Basis of Handicap in Programs and Activities; and Nondiscrimination on the basis of sex in Education programs receiving or benefiting from Federal Financial Assistance.

Notice that an organization has been selected as a grant recipient does not constitute approval of the grant application as submitted. Before the actual grant award, VETS may enter into negotiations concerning such items as program components, funding levels, and administrative systems. If the negotiations do not result in an acceptable submittal, the Grant Officer reserves the right to terminate the negotiation and decline to fund the proposal.

Signed at Washington, DC, this 27th day of February, 2003.
Daniel P. Murphy,
Grant Officer.

Appendices

Appendix A: Application for Federal Assistance SF Form 424

Appendix B: Budget Information Sheet

Appendix C: Assurances and Certifications Signature Page

Appendix D: Technical Performance Goals Form

Appendix E: Direct Cost Descriptions for Applicants and Sub-Applicants

Appendix F: The Glossary of Terms

Appendix G: List of 75 largest U.S. Cities

BILLING CODE 4510-79-P

[FR Doc. 03-5088 Filed 3-4-03; 8:45 am]

BILLING CODE 4510-79-C